DEPARTMENT OF THE INTERIOR

Bureau of Land Management

[BLM_UT_FRN_MO4500179314]

Notice of Public Meetings Utah Resource Advisory Council

AGENCY: Bureau of Land Management, Interior.

ACTION: Notice of public meetings.

SUMMARY: In accordance with the Federal Land Policy and Management Act, the Federal Advisory Committee Act, and the Federal Lands Recreation Enhancement Act, the U.S. Department of the Interior, Bureau of Land Management's (BLM) Utah Resource Advisory Council (RAC) will meet as indicated below.

DATES: The Utah RAC will hold meetings on November 13, 2024, with a field tour on November 14, 2024, and a meeting on March 19, 2025, with a field tour on March 20, 2025. Each meeting will be held in person, with an option for virtual participation during the public comment period. The meetings will occur from 8 a.m. to 4:30 p.m. Mountain Time (MT), and the field tours will occur from 8 a.m. to 2:30 p.m. MT. The November and March meetings and field tours are open to the public.

ADDRESSES: The November 13, 2024, meeting will be held at the Prehistoric Museum, 155 East Main, Price, Utah, 84501. The November 14, 2024, field tour will commence and conclude at the BLM Price Field Office, 125 South 600 West, Price, UT 84501. The March 19, 2025, meeting will be held at the Kanab Center, 20 N 100 East, Kanab, Utah, 84741. The March 20, 2025, field tour will commence and conclude at the BLM Paria River District Office, 669 S. Highway 89A, Kanab, UT 84741. Agendas and in-person meeting access information will be posted on the Utah RAC web page 30 days before each meeting at https://www.blm.gov/get-involved/resource-advisory-council/near-you/utah/RAC. Participants wishing to virtually participate should register 24 hours in advance of the start time. Written comments to address the Utah RAC may be sent to the BLM Utah State Office, 440 West 200 South, Suite 500, Salt Lake City, UT 84101, or via email to BLM_UT_External_Affairs@blm.gov with the subject line “Utah RAC Meeting.”

FOR FURTHER INFORMATION CONTACT: Cindy Gallo, Public Affairs Specialist, BLM Utah State Office, 440 West 200 South, Suite 500, Salt Lake City, UT 84101; phone (801) 539-4014; or email cgallo@blm.gov. Individuals in the United States who are deaf, deafblind, hard of hearing, or have a speech disability may dial 711 (TTY, TDD, or TeleBraille) to access telecommunications relay services.

Individuals outside the United States should use the relay services offered within their country to make international calls to the point-of-contact in the United States. Please make requests in advance for sign language interpreter services, assistive listening devices, language translation services, or other reasonable accommodations. We ask that you contact the person listed above at least 14 business days prior to the meeting to give the Department of the Interior sufficient time to process your request. All reasonable accommodation requests are managed on a case-by-case basis.

SUPPLEMENTARY INFORMATION: The Utah RAC provides recommendations to the Secretary of the Interior, through the BLM, on a variety of public lands issues. Agenda topics for the November 13, 2024, meeting include updates and overview of BLM district and statewide planning efforts including hardrock mining, travel management plans, solar and geothermal energy development, and other issues as appropriate. The November 14, 2024, field tour will be to sites within the Price Field Office. Agenda topics for the March 19, 2025, meeting include updates and overview of BLM district and State planning efforts, including Administration priorities, the Grand Staircase-Escalante National Monument Resource Management Plan, recreation, and other issues as appropriate. The March 20, 2025, field tour will be to the Grand Staircase-Escalante National Monument. Members of the public are welcome on field tours but must provide their own transportation and meals. Individuals who plan to attend the field tour must RSVP at least 1 week in advance of the field tour with the person listed in the FOR FURTHER INFORMATION CONTACT section of this notice. Additional details about the field tour will be posted to the Utah RAC web page at least 2 weeks prior to the tour date. A 30-minute public comment period will be held from 1 p.m. to 1:30 p.m. MT on November 13, 2024, and March 19, 2025. Depending on the number of people wishing to comment, the amount of time for individual oral comments may be limited. Written comments may also be submitted to the BLM Utah State Office at the address listed in the ADDRESSES section of this notice. All comments received will be provided to the Utah RAC members.

Public Disclosure of Comments

Before including your address, phone number, email address, or other personal identifying information in your comment, be aware that your entire comment—including your personal identifying information—may be made publicly available at any time. While you can ask us in your comment to withhold your personal identifying information from public review, we cannot guarantee that we will be able to do so.

Detailed minutes for the Utah RAC meeting will be maintained in the BLM Utah State Office and will be available for public inspection and reproduction during regular business hours within 90-days following the meeting. Minutes will also be posted to the Utah RAC web page.

(Authority: 43 CFR 1784.4-2).

Gregory Sheehan,
Utah State Director.

[FR Doc. 2024-15825 Filed 7-17-24; 8:45 am]

BILLING CODE 4331-25-P